FEDERAL RESERVE SYSTEM

12 CFR Parts 217, 225, 238, and 252

RIN 7100-AF95

Amendments to Capital Planning and Stress Testing Requirements for Large Bank Holding Companies, Intermediate Holding Companies and Savings and Loan Holding Companies

AGENCY: Board of Governors of the Federal Reserve System (Board).

ACTION: Technical correction.

SUMMARY: This document corrects an error in amendatory instruction 2 affecting Part 217 of the Board's Regulation Q published in the Federal Register on February 3, 2021.

DATES: Effective April 5, 2021.

FOR FURTHER INFORMATION CONTACT: Asad Kudiya, Senior Counsel, (202) 475-6358 or Jonah Kind, Counsel, (202) 452-2045. You may also contact any of the named individuals in the final rule document 86 FR 7927 (February 3, 2021).

SUPPLEMENTARY INFORMATION:

Correction

In final rule FR Doc. 2021-02182, published on February 3, 2021, on page 7938, in the third column, make the following corrections to instruction 2, amending § 217.11:

§ 217.11 [Corrected]

1. In instruction 2.b., the text “Revising the paragraph (c) subject heading and paragraphs (c)(1)(i) and (ii), (c)(1)(iii) introductory text, and (c)(1)(iv) introductory text, (c)(1)(v) introductory text, and (c)(vi) introductory text; and” is corrected to read “Revising the paragraph (c) heading and paragraphs (c)(1)(i) and (ii), (c)(1)(iii) introductory text, (c)(1)(iv) introductory text, (c)(1)(v) introductory text, and (c)(1)(vi); and”

2. In instruction 2.c., the text “Correctly designating the second occurrence of paragraph (c)(1)(v) as paragraph (c)(1)(vii); and” is corrected to read “Correctly designating the second occurrence of paragraph (c)(1)(v) as paragraph (c)(1)(vii) and revising it; and”

3. In instruction 2.d., the text “Revising paragraph (c)(2).” is corrected to read “Revising paragraph (c)(2) heading, (c)(2)(i) and (c)(2)(ii) introductory text”.

Ann Misback,
Secretary of the Board.

[FR Doc. 2021-02911 Filed 2-11-21; 8:45 am]

BILLING CODE P